DEPARTMENT OF TRANSPORTATION

Office of the Secretary

Aviation Proceedings, Agreements Filed the Week Ending February 10, 2006

The following Agreements were filed with the Department of Transportation under the Sections 412 and 414 of the Federal Aviation Act, as amended (49 U.S.C. 1382 and 1384) and procedures governing proceedings to enforce these provisions. Answers may be filed within 21 days after the filing of the application.

Docket Number: OST-2006-23881.

Date Filed: February 7, 2006.

Parties: Members of the International Air Transport Association.

Subject: TC3 South Asian Subcontinent—South West Pacific. Singapore, 21 November—30 November 2005.

Intended effective date: 1 April 2006 (Memo 0930).

Minutes: TC3 South Asian Subcontinent—South West Pacific. Singapore, 21 November—30 November 2005 (Memo 0943).

Tables: TC3 South Asian Subcontinent—South West Pacific Singapore, 21 November—30 November 2005.

Intended effective date: 1 April 2006 (Memo 0381).

Docket Number: OST-2006-23892.

Date Filed: February 8, 2006.

Parties: Members of the International Air Transport Association.

Subject: TC3 South East Asia—South West Pacific between Malaysia and American Samoa. Singapore, 21 November—30 November 2005.

Intended Effective Date: 1 April 2006 (Memo 0924).

Minutes: TC3 South East Asia—South West Pacific between Malaysia and American Samoa. Singapore, 21 November—30 November 2005 (Memo 0943).

Fares: TC3 South East Asia—South West Pacific between Malaysia and American Samoa. Singapore, 21 November—30 November 2005. Specified fare tables.

Intended effective date: 1 April 2006 (Memo 0383).

Docket Number: OST-2006-23915.

Date Filed: February 9, 2006.

Parties: Members of the International Air Transport Association.

Subject: Mail Vote Number S 084. RP 1720a-13 Digit Numbering System for Traffic Documents Request for an Additional Form Code for Increased Usage of Electronic Tickets (ETs) in an OPTAT Environment.

Intended effective date: 20 February 2006.

Renee V. Wright,
Program Manager, Docket Operations, Federal Register Liaison.

[FR Doc. E6-2963 Filed 3-2-06; 8:45 am]

BILLING CODE 4910-62-P